DEPARTMENT OF HOMELAND SECURITY

Coast Guard

33 CFR Part 117

[Docket No. USCG-2014-0114]

Drawbridge Operation Regulation; Lake Pontchartrain, Between Jefferson and St. Tammany Parishes, LA

AGENCY: Coast Guard, DHS.

ACTION: Notice of deviation from drawbridge regulation.

SUMMARY: The Coast Guard has issued a temporary deviation from the operating schedule that governs the draws of bascule span of the Greater New Orleans Expressway Commission Causeway across Lake Pontchartrain between Metairie, Jefferson Parish and Mandeville, St. Tammany Parish, Louisiana. This deviation allows the draws of the bridge to remain closed to navigation for six weeks to allow for the replacement of electrical parts of the bridge. This deviation is necessary to provide for the continued safe operation of the bridge.

DATES: This deviation is effective from 5:30 a.m. on Monday March 24, 2014 through 7 p.m. on Friday, May 2, 2014.

ADDRESSES: The docket for this deviation, [USCG-2014-0114] is available at http://www.regulations.gov. Type the docket number in the “SEARCH” box and click “SEARCH.” Click on Open Docket Folder on the line associated with this deviation. You may also visit the Docket Management Facility in Room W12-140 on the ground floor of the Department of Transportation West Building, 1200 New Jersey Avenue SE., Washington, DC 20590, between 9 a.m. and 5 p.m., Monday through Friday, except Federal holidays.

FOR FURTHER INFORMATION CONTACT: If you have questions on this temporary deviation, call or email David Frank, Bridge Administration Branch, Coast Guard; telephone 504-671-2128, email David.M.Frank@uscg.mil. If you have questions on viewing the docket, call Cheryl F. Collins, Program Manager, Docket Operations, telephone 202-366-9826.

SUPPLEMENTARY INFORMATION: The Greater New Orleans Expressway Commission requested a temporary deviation from the published regulation for the Greater New Orleans Expressway Commission Causeway bascule bridge across Lake Pontchartrain. The deviation allows the draws of the north bascule span to remain closed to navigation for six consecutive weeks from 5:30 a.m. on Monday March 24, 2014 through 7 p.m. on Friday, May 2, 2014 to facilitate the replacement of electrical components of the bridge.

Presently, in accordance with 33 CFR 117.467(b), the draw of the Greater New Orleans Expressway Commission Causeway bascule bridge shall open on signal if at least three hours notice is given; except that the draw need not be open for the passage of vessels Monday through Fridays except Federal holidays, from 5:30 a.m. to 9:30 a.m. and 3 p.m. to 7 p.m.. The draw will open on signal for any vessel in distress or vessel waiting immediately following the closures listed above.

The bascule span provides a vertical clearance of 42.6 feet above mean high water, elevation 2.6 feet NGVD in the closed-to-navigation position, and unlimited clearance in the open-to-navigation position. During the closure period, the bridge will not be able to open for vessels to transit through the bascule spans of the bridge. In case of an emergency, the bridge owner will be able to hand crank the draws of the bridge to the open-to-navigation position. As an alternate route, the south channel fixed spans of the bridge provide a vertical clearance of 50 feet above mean high water. Navigation on the waterway consists of small tugs with tows, fishing vessels, sailing vessels, and other recreational craft.

In accordance with 33 CFR 117.35, the draw bridge must return to its regular operating schedule immediately at the end of the effective period of this temporary deviation. This deviation from the operating regulations is authorized under 33 CFR 117.35.

Dated: February 26, 2014.
David M. Frank,
Bridge Administrator.

[FR Doc. 2014-05537 Filed 3-13-14; 8:45 am]

BILLING CODE 9110-04-P